COMMISSION ON CIVIL RIGHTS

Notice of Public Meetings of the Indiana Advisory Committee to the U.S. Commission on Civil Rights

AGENCY: U.S. Commission on Civil Rights.

ACTION: Notice of virtual panel briefings.

SUMMARY: Notice is hereby given, pursuant to the provisions of the rules and regulations of the U.S. Commission on Civil Rights (Commission) and the Federal Advisory Committee Act, that the Indiana Advisory Committee (Committee) to the U.S. Commission on Civil Rights will hold three additional panel briefings via Zoom. The purpose of these briefings is to hear testimony on hate crimes nationally and in Indiana.

DATES:

• PANEL V: Monday, November 18, 2024, from 11 a.m.-1 p.m. eastern time;

• PANEL VI: Tuesday, November 19, 2024, from 11 a.m.-1 p.m. eastern time;

• PANEL VII: Friday, November 22, 2024, from 11 a.m.-1 p.m. eastern time.

ADDRESSES: These briefings will be held via Zoom.

PANEL V (Federal, State, Indiana Hate Crime Laws)

• Registration Link (Audio/Visual): https://bit.ly/3AEBMXn

• Join by Phone (Audio Only): 1-833-435-1820 USA Toll Free; Webinar ID: 160 239 2572#

PANEL VI (Impact of Hate Crimes—Incidents in Indiana & Healing Affected Communities)

• Registration Link (Audio/Visual): https://bit.ly/3CpAcJp

• Join by Phone (Audio Only): 1-833-435-1820 USA Toll Free; Webinar ID: 161 819 6910#

PANEL VII (Hate Crime Data Collection)

• Registration Link (Audio/Visual): https://bit.ly/3NTfoMX

• Join by Phone (Audio Only): 1-833-435-1820 USA Toll Free; Webinar ID: 160 145 7076#

FOR FURTHER INFORMATION CONTACT: Ivy Davis, Director of Eastern Regional Office and Designated Federal Officer, at ero@usccr.gov or 1-202-539-8468.

SUPPLEMENTARY INFORMATION: These Committee meetings are available to the public through the registration links above. Any interested members of the public may attend these meetings. Before adjourning each meeting, the Chair will recognize members of the public to make brief oral statements, as time allows. Pursuant to the Federal Advisory Committee Act, public minutes of the meeting will include a list of persons who are present at these meetings. If joining via phone, callers can expect to incur regular charges for calls they initiate over wireless lines, according to their wireless plans. The Commission will not refund any incurred charges. Callers will incur no charge for calls they initiate over land-line connections to the toll-free telephone number. Closed captioning is available by selecting “CC” in the meeting platform. To request additional accommodations, please email svillanueva@usccr.gov at least 10 business days prior to each meeting.

Members of the public are entitled to submit written comments; the comments must be received in the regional office within 30 days after the scheduled meeting. Written comments may be emailed to Ivy Davis at ero@usccr.gov; please include Indiana Committee in the subject line of the transmitting email. Persons who desire additional information may contact the Regional Programs Coordination Unit at 1-202-539-8468.

Records generated from these meetings may be inspected and reproduced at the Regional Programs Coordination Unit Office, as they become available, both before and after each meeting. Records of the meetings will be available via the file sharing website, https://bit.ly/47mDPeL. Persons interested in the work of this Committee are directed to the Commission's website, http://www.usccr.gov, or may contact the Regional Programs Coordination Unit at svillanueva@usccr.gov.

Agenda

I. Welcoming Remarks

II. Panel Briefing

—Panelists' Opening Statements

—Discussion among Committee members and panelists in response to members' questions

III. Public Comments

IV. Adjourn

Exceptional Circumstance: Pursuant to 41 CFR 102-3.150, the notice for this meeting is given fewer than 15 calendar days prior to the scheduled meetings to ensure that invited panelists are able to attend.

Dated: November 19, 2024.
David Mussatt,
Supervisory Chief, Regional Programs Unit.

[FR Doc. 2024-27437 Filed 11-21-24; 8:45 am]

BILLING CODE P